DEPARTMENT OF COMMERCE

National Oceanic and Atmospheric Administration

[RTID 0648-XB822]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its American Samoa Fishery Archipelago Fishery Ecosystem Plan (FEP) Advisory Panel (AP), Mariana Archipelago FEP-Commonwealth of the Northern Mariana Islands (CNMI) AP, Mariana Archipelago FEP-Guam AP, Fishing Industry Advisory Committee (FIAC), and the Hawaii Archipelago FEP AP to discuss and make recommendations on fishery management issues in the Western Pacific Region.

DATES: The meetings will be held between March 8 and March 11, 2022. For specific times and agendas, see SUPPLEMENTARY INFORMATION.

ADDRESSES: The meetings will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; phone: (808) 522-8220.

SUPPLEMENTARY INFORMATION: The American Samoa Archipelago FEP AP will meet on Tuesday, March 8, 2022, from 6 p.m. to 8 p.m., The Mariana Archipelago FEP-CNMI AP will meet on Thursday, March 10, 2022, from 9 a.m. to 11 a.m., the Mariana Archipelago FEP-Guam AP will meet on Thursday March 10, 2022, from 6:30 p.m. to 8:30 p.m., the FIAC will meet on Thursday, March 10, 2022, from 2 p.m. to 5 p.m., and the Hawaii Archipelago FEP AP will meet on Friday, March 11, from 9 a.m. to 12 noon. All times listed are local island times expect for the FIAC which is in Hawaii Standard Time.

Public Comment periods will be provided in the agendas. The order in which agenda items are addressed may change. The meetings will run as late as necessary to complete scheduled business.

Schedule and Agenda for the American Samoa Archipelago AP Meeting

Tuesday, March 8, 2022, 6 p.m.-8 p.m. (American Samoa Standard Time)

1. Welcome and Introductions

2. Review of Last AP Meeting and Recommendations

3. American Samoa (AS) Fishery Issues and Activities

A. Bottomfish

i. Options for Revising the Territorial Bottomfish Management Unit Species (BMUS)

ii. American Samoa Bottomfish Data Workshop

B. Council Coordination Committee (CCC) Working Group on Equity and Environmental Justice (EEJ)

C. Fishery Biological Opinions (BiOPs) Update

4. 2022 AP Activities Plan

A. Update on Sustainable Fisheries Fund Projects

B. Catchit Logit (CILI) Update

C. Education and Outreach

5. Feedback From The Fleet

A. AS Fishermen Observations

B. AP Fishery Issues and Activities

6. Public Comment

7. Discussion and Recommendations

8. Other Business

Schedule and Agenda for the Mariana Archipelago-CNMI AP Meeting

Thursday, March 10, 2022, 9 a.m.-11 a.m. (Marianas Standard Time)

1. Welcome and Introductions

2. Review of Last AP Meeting and Recommendations

3. CNMI Fishery Issues and Activities

A. Bottomfish

i. Options for Revising the Territorial BMUS

ii. Fishery BiOPs Update

B. Marianas Sanctuary Nomination

C. CILI Updates

D. CCC Working Group on EEJ

4. 2022 Advisory Panel Activities Plan

A. AP Outreach and Education

5. Feedback From The Fleet

A. CNMI Fishermen Observations

B. AP Fishery Issues and Activities

6. Discussion and Recommendations

7. Other Business

Schedule and Agenda for the Mariana Archipelago-Guam AP Meeting

Thursday, March 10, 2022, 6:30 p.m.-8:30 p.m. (Marianas Standard Time)

1. Welcome and Introductions

2. Review of Last AP Meeting and Recommendations

3. Guam Fishery Issues and Activities

A. Bottomfish

i. Options for Revising the Territorial BMUS

ii. Fishery BiOPs Update

B. Marianas Sanctuary Nomination

C. CILI Updates

D. CCC Working Group on EEJ

4. 2022 AP Activities Plan

A. AP Outreach and Education

5. Feedback From The Fleet

A. Guam Fishermen Observations

B. AP Fishery Issues and Activities

6. Public Comment

7. Discussion and Recommendations

8. Other Business

Schedule and Agenda for the FIAC Meeting

Thursday, March 10, 2022, 2 p.m.-5 p.m. (Hawaii Standard Time)

1. Welcome and Introductions

2. Status Report on September 2021 FIAC Recommendations

3. Roundtable Update on Fishing/Market Issues/Impacts (billfish, transportation, etc.)

4. Investigating the Relationships Between Imports and Fish Prices

5. Aquaculture Management Final Proposed Environmental Impact Statement and Future Action

6. Northwestern Hawaiian Islands (NWHI) Proposed National Marine Sanctuary 304(1)(5) Council Response

7. International Fisheries

A. New Strategy for Addressing Western and Central Pacific Fisheries Commission Issues

B. Revisiting Western and Central Pacific Ocean Silky Shark MSA 304(i) Obligations

8. False Killer Whale Hook Study Implications

9. CCC Working Group on EEJ

10. Other Issues

11. Public Comment

12. Discussion and Recommendations

Schedule and Agenda for the Hawaii Archipelago AP Meeting

Friday, March 11, 2022, 9 a.m.-12 noon (Hawaii Standard Time)

13. Welcome and Introductions

14. Review of Last AP Meeting and Recommendations

15. Council Issues

A. NWHI Proposed National Marine Sanctuary 304(1)(5) Council Response

B. Specification of the Main Hawaiian Islands Deepwater Shrimp and Precious Coral Annual Catch Limits for Fishing Year 2022-2025

C. False Killer Whale Hook Study Implications

D. CCC Working Group on EEJ

16. AP Plan and Working Group Reports

A. Smart Fish Aggregation Devices

B. FishMaps

17. Hawaii Fishery Issues and Activities

A. Investigating the Relationships Between Imports and Fish Prices

B. Green Turtle Management Update

C. Non-Longline Pelagic Data Workshop

18. Feedback from the Fleet

A. Hawaii Fishermen Observations

B. AP Fishery Issues and Activities

19. Public Comment

20. Discussion and Recommendations

21. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 16, 2022.
Tracey L. Thompson,
Acting Deputy Director, Office of Sustainable Fisheries, National Marine Fisheries Service.

[FR Doc. 2022-03721 Filed 2-18-22; 8:45 am]

BILLING CODE 3510-22-P